DEPARTMENT OF JUSTICE

[OMB Number 1121-0249]

Bureau of Justice Statistics; Agency Information Collection Activities: Proposed Collection; Extension of a Currently Approved Collection; Comment Request

ACTION: 30-Day Notice of Information Collection Under Review: Deaths in Custody—series of collections from local jails, state prisons, and law enforcement.

The Department of Justice (DOJ), Bureau of Justice Statistics, will be submitting the following information collection request to the Office of Management and Budget (OMB) for review and approval in accordance with the Paperwork Reduction Act of 1995. The proposed information collection is published to obtain comments from the public and affected agencies. This proposed information collection was previously published in the Federal Register Volume 74, Number 135, page 34590 on July 16, 2009, allowing for a sixty day comment period. BJS will make both the comments and responses public.

The purpose of this notice is to allow for an additional 30 days for public comment October 26, 2009. This process is conducted in accordance with 5 CFR 1320.10.

If you have comments especially on the estimated public burden or associated response time, suggestions, or need a copy of the proposed information collection instrument with instructions or additional information, please contact Margaret Noonan, Statistician (202) 353-2060, Bureau of Justice Statistics, 810 Seventh St. NW., Washington, DC 20531.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of this information collection:

(1) Type of information collection: Extension of currently approved collection.

(2) The title of the Form/Collection: Deaths in Custody Reporting Program.

(3) The agency form number, if any, and the applicable component of the Department sponsoring the collection: Forms: CJ-9 Quarterly Report on Inmates Under Jail Jurisdiction, CJ-9A Annual Summary on Inmates Under Jail Jurisdiction, CJ-10 Quarterly Report on Inmates in Private or Multi-Jurisdiction Jails, CJ-10A Annual Summary on Inmates in Private of Multi-Jurisdiction Jails, NPS-4 Quarterly Summary of Inmate Deaths in State Prison, NPS-4A State Prison Inmate Death Report, CJ-11 Quarterly Summary of Arrest-Related Deaths, and CJ-11A Arrest-Related Death Report. Corrections Statistics Program, Bureau of Justice Statistics, Office of Justice Programs, United States Department of Justice.

(4) Affected public who will be asked to respond, as well as a brief abstract: Local jail administrators, State prison administrators. Other: State-level central reporters from each State's criminal justice Statistical Analysis Center (SAC) as well as reporters from the District of Columbia and the New York City Police Department.

One reporter from each of the 3,000 local jail jurisdictions and one reporter from each of the 50 prison systems in the United States are asked to provide information for the following categories:

(a) The number of inmates as of January 1 and December 31st of each reporting year, by gender, either actual or estimated (local jails only);

(b) The number of inmates admitted between January 1 and December 31st of each reporting year (local jails only);

(c) The average daily population of all jail confinement facilities operated by the jurisdiction, by gender, in the previous year (local jails only);

(d) During each reporting quarter, the number of inmate deaths;

(e) The full name, date of birth, gender, race/Hispanic origin and date of death for each inmate who died during the reporting quarter;

(f) The admission date, legal status and current offenses for each inmate who died during the reporting quarter;

(g) Where the inmate died within the correctional facilities;

(h) Whether an autopsy/post-mortem to determine the cause of death of the inmate was performed and the availability of those results;

(i) The location and cause of death of each inmate death that took place during the reporting quarter;

(j) Whether the cause of death was a pre-existing medical condition or a condition that developed after admission to the facility and whether the inmate received treatment for the medical condition after admission and if so, the kind of treatment received (illness—including AIDS—deaths only, deaths due to accidental injury, intoxication, suicide or homicide do not apply);

(k) The time of day that the incident causing the inmate's death occurred and where the incident occurred (limited to accidents, suicides and homicides only); and

(l) The survey ends with a small `notes' block.

Fifty-two state-level central reporters (one reporter from each state, one from the District of Columbia and one from the New York City Police Department) will be asked by BJS to provide information on the following categories:

(a) During each reporting quarter, the number of deaths of persons during the process of arrest by State and local law enforcement;

(b) The deceased's name, date of birth, gender, race/Hispanic origin and legal status at the time of death;

(c) The date and location of death, the manner and medical cause of death and whether an autopsy was performed;

(d) The law enforcement agency involved and the offenses for which the inmate was being charged;

(e) In cases of death prior to booking, whether the death was the result of a medical condition or injuries sustained at the crime or arrest scene and whether the officer(s) involved used any weapons to cause the death;

(f) In cases of deaths prior to booking, whether the deceased was under restraint, including the use of conducted-energy devices, in the time leading up to the death, and whether their behavior at the arrest scene included threats or the use of any force against the arresting officer(s);

(g) In cases of death after booking, the time and date of the deceased's entry into the law enforcement booking facility where the death occurred, and the medical and mental condition of the deceased at the time of entry; and

(h) In cases of death after booking, who caused the death and what were the means of death, e.g., suicide by hanging (limited to accidental deaths, homicides and suicides only).

The Bureau of Justice Statistics uses this information in published reports and statistics. The reports will be made available to the U.S. Congress, Executive Office of the President, practitioners, researchers, students, the media, and others interested in criminal justice statistics.

(5) An estimated 3,102 total respondents will submit an estimated 19,308 responses each year to this collection program. The amount of time needed for a typical respondent to complete each form is broken down as follows:

Local jails/quarterly (forms CJ-9 and CJ-10)—3,000 respondents:

Approximately 85% of jails nationwide have zero deaths in a given calendar year, and even greater percentage would have zero deaths in a given calendar quarter. Respondents reporting a zero will need an average of 5 minutes to respond. For jurisdictions reporting a death, the average response time is estimated at 30 minutes per death, for a total of 1,550 hours devoted to reporting data on deaths in jails.

Local jails/annual (forms CJ-9A and CJ-10A)—3,000 respondents will have an average response time of 15 minutes per form, for a total of 750 hours.

State prison/quarterly (form NPS-4)—50 respondents are estimated to have an average response time of 5 minutes per form, for a total of 17 hours.

State prisons addendum/quarterly (form NPS-4A)—50 respondents are estimated to have an average response time of 30 minutes per death, for a total of 1,600 hours.

State and local law enforcement/quarterly (CJ-11)—52 respondents are estimated to have an average response time of 5 minutes per form, for a total of 17 hours.

State and local law enforcement addendum/quarterly (CJ-11A)—52 respondents are estimated to have an average response time of 60 minutes per death, for a total of 700 hours.

(6) An estimate of the total public burden (in hours) associated with the collection: 4,634 annual burden hours.

If additional information is required, contact: Lynn Bryant, Department Clearance Officer, United States Department of Justice, Justice Management Division, Policy and Planning Staff, Patrick Henry Building, Suite 1600, 601 D Street, NW., Washington, DC 20530.

Dated: September 22, 2009.
Lynn Bryant,
Department Clearance Officer, PRA, United States Department of Justice.

[FR Doc. E9-23181 Filed 9-24-09; 8:45 am]

BILLING CODE 4410-18-P